NUCLEAR REGULATORY COMMISSION

[NRC-2018-0232]

Environmental Dosimetry-Performance Specifications, Testing, and Data Analysis

AGENCY: Nuclear Regulatory Commission.

ACTION: Draft regulatory guide; request for comment.

SUMMARY: The U.S. Nuclear Regulatory Commission (NRC) is issuing for public comment draft regulatory guide (DG), DG-4019, “Environmental Dosimetry-Performance Specifications, Testing, and Data Analysis.” This proposed revision (Revision 2) to Regulatory Guide (RG) 4.13 provides updated guidance that the NRC staff considers acceptable for performing surveys and evaluations of public dose in the unrestricted area and the controlled area of a licensed facility from direct radiation using environmental dosimetry. The DG endorses the American National Standards Institute/Health Physics Society (ANSI/HPS) N13.37-2014, “Environmental Dosimetry—Criteria for System Design and Implementation.”

DATES: Submit comments by December 17, 2018. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking website: Go to http://www.regulations.gov and search for Docket ID NRC-2018-0232. Address questions about NRC dockets to Jennifer Borges; telephone: 301-287-9127; email: Jennifer.Borges@nrc.gov. For technical questions, contact the individual listed in the FOR FURTHER INFORMATION CONTACT section of this document.

• Mail Comments to: May Ma, Office of Administration, Mail Stop: OWFN-2A13, U.S. Nuclear Regulatory Commission, Washington, DC 20555-0001. For additional direction on accessing information and submitting comments, see “Obtaining Information and Submitting Comments” in the SUPPLEMENTARY INFORMATION section of this document.

FOR FURTHER INFORMATION CONTACT: Steven Garry, Office of Nuclear Reactor Regulation, telephone: 301-415-2766, email: Steven.Garry@nrc.gov, and Harriet Karagiannis, Office of Nuclear Regulatory Research, telephone: 301-415-2493, email: Harriet.Karagiannis@nrc.gov. Both are staff of the U.S. Nuclear Regulatory Commission, Washington, DC 20555-0001.

SUPPLEMENTARY INFORMATION:

I. Obtaining Information and Submitting Comments

A. Obtaining Information

Please refer to Docket ID NRC-2018-0232 when contacting the NRC about the availability of information regarding this document. You may obtain publically-available information related to this document, by any of the following methods:

• Federal Rulemaking website: Go to http://www.regulations.gov and search for Docket ID NRC-2018-0232.

• NRC's Agencywide Documents Access and Management System (ADAMS): You may obtain publicly available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The DG is electronically available in ADAMS under Accession No. ML18087A169.

• NRC's PDR: You may examine and purchase copies of public documents at the NRC's PDR, Room O1-F21, One White Flint North, 11555 Rockville Pike, Rockville, Maryland 20852.

B. Submitting Comments

Please include Docket ID NRC-2018-0232 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled, “Environmental Dosimetry-Performance Specifications, Testing, and Data Analysis,” is temporarily identified by its task number, DG-4019. DG-4019 is proposed Revision 2 to RG 4.13, dated July 1977. The title of the proposed Revision 2 is different than the title used for Revision 1. The title has changed to more clearly indicate the content of the regulatory guide, which includes data analysis suitable to assess potential facility-related radiation doses, and to broaden the scope beyond thermoluminescence dosimetry to include other types of dosimetry.

Revision 1 to RG 4.13 (1977), endorsed American National Standards Institute (ANSI) N545-1975, “Performance, Testing, and Procedural Specifications for Thermoluminescence Dosimetry (Environmental Applications).” ANSI standard N545-1975 has been replaced by American National Standards Institute/Health Physics Society (ANSI/HPS) N13.37-2014, “Environmental Dosimetry—Criteria for System Design and Implementation,” which provides improved environmental dosimetry system design criteria and dosimeter laboratory test protocols, as well as methods of data analysis suitable to assess potential facility-related radiation doses.

The proposed Revision 2 to RG 4.13 provides updated NRC guidance on an acceptable dosimetry program for monitoring direct radiation in the unrestricted area and the controlled area of a licensed facility by endorsing ANSI/HPS N13.37-2014. This ANSI/HPS standard provides up-to-date environmental dosimetry system design criteria and dosimeter laboratory test protocols, as well as methods of data analysis suitable to assess potential facility-related radiation doses.

III. Backfitting and Issue Finality

This RG provides guidance on establishing and conducting an environmental dosimetry program that the NRC staff considers acceptable for monitoring direct radiation released into the unrestricted area and the controlled area of a licensed facility. The NRC regards these requirements as constituting information collection and reporting requirements. The NRC has long taken the position that information collection and reporting requirements are not subject to the NRC's backfitting and issue finality regulations in 10 CFR 50.109, 10 CFR 70.76, 10 CFR 72.62, 10 CFR 76.76, and 10 CFR part 52 (e.g., “Material Control and Accounting Methods,” December 23, 2002 (67 FR 78130); and “Regulatory Improvements to the Nuclear Materials Management and Safeguards System,” June 9, 2008 (73 FR 32453)). Therefore, the NRC has determined that its backfitting and issue finality regulations would not apply to this DG, if ultimately issued as a RG, because the RG does not include any provisions within the scope of matters covered by the backfitting provisions in 10 CFR parts 50, 70, 72, or 76, or the issue finality provisions of 10 CFR part 52.

Dated at Rockville, Maryland, this 11th day of October 2018.
For the Nuclear Regulatory Commission.
Thomas H. Boyce,
Chief, Regulatory Guidance and Generic Issues Branch, Division of Engineering, Office of Nuclear Regulatory Research.

[FR Doc. 2018-22550 Filed 10-16-18; 8:45 am]

BILLING CODE 7590-01-P